DEPARTMENT OF COMMERCE

National Oceanic and Atmospheric Administration

RIN 0648-XF222

Fisheries of the Northeastern United States; Atlantic Herring Fishery; Management Strategy Evaluation Debrief; Request for Comments

AGENCY: National Marine Fisheries Service (NMFS), National Oceanic and Atmospheric Administration (NOAA), Commerce.

ACTION: Notice; request for comments.

SUMMARY: The New England Fishery Management Council (Council) seeks public comment on the Management Strategy Evaluation (MSE) process used to develop and analyze Acceptable Biological Catch (ABC) control rule alternatives in Amendment 8 to the Atlantic Herring Fishery Management Plan (FMP). The purpose of this notice is to announce the Council's intent to gather public comments on this topic.

DATES: Written and electronic scoping comments must be received on or before 8:00 a.m. EST on Friday, August 9, 2019.

ADDRESSES: Written comments may be sent by any of the following methods:

• Email to the following address: comments@nefmc.org;

• Mail to Thomas A. Nies, Executive Director, New England Fishery Management Council, 50 Water Street, Mill 2, Newburyport, MA 01950; or

• Fax to (978) 465-3116.

The invitation for public comment document is accessible electronically online at: https://www.nefmc.org/library/management-strategy-evaluation-debrief-comment-now.

Requests for copies of the invitation for public comment document and other information should be directed to Thomas A. Nies, Executive Director, New England Fishery Management Council, 50 Water Street, Mill 2, Newburyport, MA 01950, telephone: (978) 465-0492.

FOR FURTHER INFORMATION: Thomas A. Nies, Executive Director, New England Fishery Management Council, (978) 465-0492.

SUPPLEMENTARY INFORMATION:

Background

The Management Strategy Evaluation used to develop Amendment 8 to the Atlantic Herring FMP was the first time this Council used MSE in decision-making. The Council is now taking a step back to debrief and identify the benefits and/or drawbacks of the MSE process, as well as lessons learned. This debrief is intended to evaluate the process used to integrate MSE into Amendment 8 and will help inform future decisions on using MSE to manage Atlantic herring or for other purposes. The goals of the debrief are to: identify perceptions of the MSE process, identify pros and cons of the specific process used, identify lessons learned from the process, and inform future Council decisions on use of MSE for Atlantic herring management.

The Council conducted a Management Strategy Evaluation to help develop alternatives for an ABC control rule, or formula for setting catch limits. This MSE was intended to be a collaborative decision-making process, involving more public input and technical analysis earlier in the amendment development process than normal. An MSE involves modelling to determine potential outcomes of different management approaches, ABC control rules in this case. MSE can help evaluate tradeoffs among objectives and which control rules would most likely meet management goals.

The Council began working on Amendment 8 in 2015, conducting public scoping and setting the goals of this action. In January 2016, the Council decided to use MSE to help develop ABC control rule alternatives. MSEs typically take several years to finish and use invitation-only, small groups (15-25) of stakeholders to give input. The Council diverged from this norm for two reasons. First, the Council aimed to finish Amendment 8 in time to develop herring fishery catch limits for 2019-2021. Thus, this MSE had unusually constrained time limits. Second, the Council decided to have all points of stakeholder input (e.g., workshops) completely open to the public, so the MSE process could mirror the open Council process as much as possible. Relative to other MSEs, the degree of stakeholder participation was rare, if not unique, at least for U.S. fisheries.

Public Comment

You may comment by submitting written comments to the Council (see ADDRESSES). While anyone may respond to this invitation for comment, the Council is particularly interested in understanding the viewpoints of those involved in the MSE (e.g., attended an MSE workshop) and are invested in the future of herring management. You may address any aspect of the MSE but are encouraged to focus on the MSE as a decision-making process, rather than the technical aspects of the MSE or the outcomes of Amendment 8 (e.g., the Council's preferred alternatives, regulatory changes). Specifically, the Council is seeking input on:

• Clarity of purpose and need for using MSE in Amendment 8.

• Sufficiency of general education about MSE, how well MSE was understood (e.g., models, role of stakeholder input) and any ideas for improving the education process (e.g., more literature, online instructional webinars, in-person seminars)?

• Utility of the six distinct phases of this MSE (described above), whether some phases (or aspects of phases) more useful or successful than others and whether the time provided for each phase was enough.

• Appropriateness of using open-invitation, public workshops for this MSE and/or recommendations for other formats.

• Utility of how MSE results were presented in helping characterize the tradeoffs associated with various alternatives.

• How well the Council integrated the MSE results and workshop input in developing Amendment 8 alternatives.

• Utility of the MSE in balancing tradeoffs between objectives.

• The benefits, if any, in using an MSE for Amendment 8, and if the benefits outweigh the costs.

• How this MSE process compared to how else the Council could have developed and selected alternatives.

After the public comment period ends, the comments will be summarized, along with any Herring Plan Development Team (PDT) input and recommendations and discussed by the Herring Advisory Panel (AP) and Committee. The Council will be updated in September 2019. The PDT will draft a final report for discussion at the AP and Committee meetings in the fall, and the Council will likely receive a final report in December 2019. Public comment is important to the Council process. This is a key opportunity for you to give feedback on the Atlantic herring MSE. Your comments will help the Council evaluate this MSE and consider future MSEs.

Authority: 16 U.S.C. 1801 et seq.

Dated: June 28, 2019.
Alan D. Risenhoover,
Director, Office of Sustainable Fisheries, National Marine Fisheries Service.

[FR Doc. 2019-14221 Filed 7-2-19; 8:45 am]

BILLING CODE 3510-22-P